ENVIRONMENTAL PROTECTION AGENCY

[EPA-HQ-OAR-2003-0044; FRL-8790-9]

Method and Format for Submitting Risk Management Plans (RMPs) Under Section 112(r) of the Clean Air Act

AGENCY: Environmental Protection Agency (EPA).

ACTION: Notice of availability.

SUMMARY: This notice provides information on the method and format for submitting risk management plans (RMPs) under EPA's Chemical Accident Prevention regulations. These regulations require owners and operators of stationary sources subject to the regulations to submit RMPs on their processes in a method and format specified by EPA. A new RMP submission method, called RMP*eSubmit, should be used by facilities submitting their RMPs electronically beginning March 13, 2009. The new submission method will be On-line via EPA's secure Web site.

FOR FURTHER INFORMATION CONTACT: Armando Santiago, Evaluation and Communications Division, Office of Emergency Management (Mail Code 5104A), Environmental Protection Agency, 1200 Pennsylvania Ave., NW., Washington, DC 20460 at (202) 564-8002 or e-mail address: Santiago.Armando@epa.gov, or contact Peter Gattuso, Regulation and Policy Development Division, Office of Emergency Management (Mail Code 5104A), Environmental Protection Agency, 1200 Pennsylvania Ave., NW., Washington, DC 20460 at (202) 564-7993 or e-mail address: Gattuso.Peter@epa.gov.

I. General Information

A. What Are the Affected or Regulated Entities?

Entities affected by this action are those stationary sources that are subject to the chemical accident prevention requirements in 40 CFR part 68. Affected categories and entities include, but are not limited to, chemical manufacturers, refineries, other manufacturers, agricultural retailers, public sources, utilities, cold storage facilities, warehouses, wholesalers, and Federal sources.

B. How Can I Get Copies of This Document and Other Related Information?

1. Docket. EPA has established a docket for this action under Docket ID No. EPA-HQ-OAR-2003-0044. Publicly available docket materials are available either electronically through http://www.regulations.gov or in hard copy at the Air Docket in the EPA Docket Center, EPA West, Room 3334, 1301 Constitution Ave., NW., Washington, DC. The EPA Docket Center Public Reading Room is open from 8:30 a.m. to 4:30 p.m., Monday through Friday, excluding legal holidays. The telephone number for the reading room is (202) 566-1744, and the telephone number for the Air Docket is (202) 566-1742.

2. Electronic Access. You may access this Federal Register document electronically through the EPA Internet under the “Federal Register” listings at http://www.epa.gov/fedrgstr/.

SUPPLEMENTARY INFORMATION: The chemical accident prevention regulations in 40 CFR part 68 require stationary sources to submit their RMPs to a central location in a method and format specified by EPA. EPA has now developed a new system for facilities to submit their RMPs. The new system, called RMP*eSubmit, is an on-line submission system. EPA's existing system for accepting RMPs on diskette, called RMP*Submit, has been in place since early 1999 for the first submission deadline, June 21, 1999, and will be discontinued. Those facilities that are unable to submit RMPs using the on-line submission system may still submit their RMPs in paper form.

Beginning March 13, 2009, EPA will ask facilities to submit their RMPs Online via EPA's secure Web site, https://cdx.epa.gov. This secure portal manages thousands of data submissions from States and industry. For sources that have submitted an RMP previously, EPA will mail them a letter with directions on how to submit their RMPs Online. For sources that are submitting an RMP for the first time, EPA will provide instructions for using the Online system via the Agency's public Web site at http://www.epa.gov/emergencies/rmp. EPA has also developed a user's manual to provide additional information on using the new reporting system. The user's manual will also be available at the above public Web site.

EPA is not requiring any new data elements with this new reporting system. The current requirements are approved by the Office of Management and Budget (OMB) under the paperwork reduction act (PRA). The current Information Collection Request (ICR) required under the PRA and approved by OMB is available at www.regulations.gov, EPA docket number, EPA-HQ-OAR-2003-0052.

Dated: March 30, 2009.
Deborah Y. Dietrich,
Director, Office of Emergency Management.

[FR Doc. E9-8653 Filed 4-14-09; 8:45 am]

BILLING CODE 6560-50-P